POSTAL SERVICE

39 CFR Part 111

Changes to Move Update Standards

AGENCY: Postal Service™.

ACTION: Proposed rule; extension of comment period.

SUMMARY: The Postal Service published in the Federal Register of July 12, 2011, a proposed rule pertaining to changes in Move Update standards, which established the comment period through August 11, 2011. This document extends the comment period.

DATES: The comment period is extended through August 31, 2011.

ADDRESSES: Mail or deliver written comments to the Manager, Product Classification, U.S. Postal Service®, 475 L'Enfant Plaza, SW., Room 4446, Washington, DC 20260-5015. You may inspect and photocopy all written comments at USPS® Headquarters Library, 475 L'Enfant Plaza, SW., 11th Floor North, Washington, DC, between 9 a.m. and 4 p.m., Monday through Friday. E-mail comments, containing the name and address of the commenter, may be sent to: MailingStandards@usps.gov, with a subject line of “Move Update.” Faxed comments are not accepted.

FOR FURTHER INFORMATION CONTACT: Jim Wilson at 901-681-4600 or Bill Chatfield at 202-268-7278.

SUPPLEMENTARY INFORMATION: The Postal Service published changes to a proposed rule in the Federal Register on July 12, 2011 (76 FR 40844), adding new sections 602.5.0 and 602.6.0 to the Domestic Mail Manual (DMM®) and revising the Move Update standards regarding change of address orders, by including in the revised standards change of address notices filed by postal employees. The proposed rule also deleted multiple sections throughout the DMM to centralize Move Update and ZIP Code™ accuracy standards under section 602. That proposed rule established August 11, 2011, as the deadline for receiving comments. This document extends the comment period through August 31, 2011.

Stanley F. Mires,
Chief Counsel, Legislative.

[FR Doc. 2011-19177 Filed 7-28-11; 8:45 am]

BILLING CODE 7710-12-P